DEPARTMENT OF HEALTH AND HUMAN SERVICES

Centers for Disease Control and Prevention

[30Day-17-17NS]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Assessing the Infrastructure for Public Sexually Transmitted Disease (STD) Prevention Services—NEW—National Center for HIV/AIDS, Viral Hepatitis, STD, and TB Prevention (NCHHSTP), Centers for Disease Control and Prevention (CDC).

Background and Brief Description

Annually, there are nearly 20 million cases of sexually transmitted diseases (STD) in the United States (US) causing an estimated $15.6 billion in direct medical costs. A significant percentage of reported cases of STDs are diagnosed in publicly funded clinics, such as STD clinics that are operated by state health departments (SHDs) and local health departments (LHDs). Additionally, state and local health departments also engage in other essential STD prevention activities such as partner services and disease surveillance. Therefore, it is important to periodically assess the current level of publicly-funded STD prevention services that are offered by health departments in the US.

The STD infrastructure survey will aid CDC in understanding the scope of the delivery of timely public STD preventive and clinical services that are provided to reduce the number of newly acquired STDs and prevent STD-related sequelae. There is no national data available that focuses on detailed STD prevention activities conducted by state and local health departments.

The purpose of this survey is to periodically, (i.e., every three years) examine STD prevention services provided by local and state health departments. The survey will include all state health departments and a nationally representative sample of local health departments in the US. The local health department sample will allow for estimates by jurisdiction population size and US Census region.

The survey contains sections on STD program structure within the health department, STD-related clinical services (local health departments only), partner and other prevention services, and workforce and impacts of any budget reductions.

CDC will administer the STD infrastructure survey to all 50 state health departments and a random sample of 668 local health departments from a list of local health departments maintained by the National Association of City and County Health Officials (NACCHO). Using a web-based survey, multiple reminders will be sent to non-responders in order to reach the target of 44 completed state and 334 completed local surveys for each data collection (different respondents per data collection). The total estimated annual burden hours are 238. There is no cost to respondents other than their time.

Estimated Annual Burden Hours
Type of respondents | Form name | Number of respondents | Number of responses per respondent | Average burden per response (in hours)
STD program director, LHDs | LHD survey | 668 | 1 | 15/60
STD program director, SHDs | SHD survey | 50 | 1 | 85/60

Leroy A. Richardson,
Chief, Information Collection Review Office, Office of Scientific Integrity, Office of the Associate Director for Science, Office of the Director, Centers for Disease Control and Prevention.

[FR Doc. 2017-17025 Filed 8-11-17; 8:45 am]

BILLING CODE 4163-18-P